ENVIRONMENTAL PROTECTION AGENCY

[EPA-HQ-OPP-2021-0015; FRL-10982-01-OCSPP]

Product Cancellation Order for Certain Pesticide Registrations; Correction

AGENCY: Environmental Protection Agency (EPA).

ACTION: Notice; correction.

SUMMARY: EPA issued a notice in the Federal Register of April 2, 2021, concerning the cancellations voluntarily requested by the registrants and accepted by the Agency. This notice is being issued to correct the cancellation order in Table 1 of Unit II by removing the registration numbers, 1007-99, 1007-100, 1007-101, and by removing EPA company number 1007 in Table 2 of Unit II. Also, by removing (Item A. For Products 1007-99, 1007-100, and 1007-101) and associated text from (Item VI. Provisions for Disposition of Existing Stocks).

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION: The registrant previously requested to cancel these registrations with the request to sell existing stocks until May 31, 2021; however, the registrant submitted a withdrawal of their request, then resubmitted the requests without the request to sell existing stocks until May 31, 2021, FR Doc. 2021-06851, which was published in the Federal Register on April 02, 2021 (86 FR 17382) (FRL-10021-91); therefore, 1007-99, 1007-100, & 1007-101 are being removed from the cancellation order.

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0015, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744. Please review the visitor instructions and additional information about the docket available at https://www.epa.gov/dockets.

II. What does this correction do?

This notice is being issued to correct the cancellation order in Table 1 of Unit II, by removing the registration numbers, 1007-99, 1007-100, and 1007-101. And by removing EPA company number 1007, in Table 2 of Unit II. Also, by removing (Item A. For Products 1007-99, 1007-100, and 1007-101) and associated text, from (Item VI. Provisions for Disposition of Existing Stocks). FR Doc. 2021-06845, published in the Federal Register on April 02, 2021 (86 FR 17385) (FRL-10022-13).

Authority: 7 U.S.C. 136 et seq.

Dated: October 13, 2023.
Charles Smith,
Director, Registration Division, Office of Pesticide Programs.

[FR Doc. 2023-23321 Filed 10-20-23; 8:45 am]

BILLING CODE 6560-50-P